DEPARTMENT OF AGRICULTURE

Animal and Plant Health Inspection Service

7 CFR Part 355

[Docket No. 04-137-1]

Protected Plant Permits

AGENCY: Animal and Plant Health Inspection Service, USDA.

ACTION: Final rule.

SUMMARY: We are amending the endangered species regulations concerning terrestrial plants by replacing all references to “general permits” with references to “protected plant permits.” This final rule is necessary for the regulations to reflect the change in the name of the permit. We are also updating a mailing address in the regulations and making other nonsubstantive editorial changes.

EFFECTIVE DATE: October 5, 2005.

FOR FURTHER INFORMATION CONTACT: Ms. Gail Jennings, Regulatory Permit Specialist, Permit Services, PPQ, APHIS, 4700 River Road Unit 133, Riverdale, MD 20737-1231; (301) 734-7472.

SUPPLEMENTARY INFORMATION:

Background

The regulations in 7 CFR part 355, “Endangered Species Regulations Concerning Terrestrial Plants” (referred to below as the regulations), pertain to the importation, exportation, or reexportation of terrestrial plants that are listed as endangered or threatened in the Endangered Species Act (referred to below as the Act). Section 355.11 requires any person wishing to import, export, or reexport plants listed in the Act to obtain a general permit by following the application procedure described in that section.

The name of the general permit has been changed to “protected plant permit.” We are amending the regulations to reflect the new name. As part of that change, we are adding a definition of protected plant permit that provides the permit's form number and complete name. This new definition serves the same purpose as footnote 3 in § 355.11, so we are removing that footnote and redesignating the remaining footnotes in part 355 accordingly.

We are also updating the address to which permit applications are submitted, adding an Internet address and telephone number that can be used to obtain a permit application, and correcting a misspelling.

This rule relates to internal agency management. Therefore, pursuant to 5 U.S.C. 553, notice of proposed rulemaking and opportunity to comment are not required, and this rule may be made effective less than 30 days after publication in the Federal Register. Further, since this rule relates to internal agency management, it is exempt from the provisions of Executive Orders 12866 and 12988. Finally, this action is not a rule as defined by the Regulatory Flexibility Act, and thus is exempt from the provisions of that Act.

Paperwork Reduction Act

This rule contains no new information collection or recordkeeping requirements under the Paperwork Reduction Act of 1995 (44 U.S.C. 3501 et seq.).

List of Subjects in 7 CFR Part 355

Endangered and threatened species, Exports, Imports, Law enforcement, Plants (Agriculture), Reporting and recordkeeping requirements.

Accordingly, 7 CFR part 355 is amended as follows:

PART 355—ENDANGERED SPECIES REGULATIONS CONCERNING TERRESTRIAL PLANTS

1. The authority citation for part 355 continues to read as follows:

Authority: 16 U.S.C. 1532, 1538, and 1540; 7 CFR 2.22, 2.80, and 371.3.

2. Section 355.2 is amended by adding, in alphabetical order, a definition of protected plant permit to read as follows.

§ 355.2 Definitions.

* * * * *

Protected plant permit. PPQ Form 622, “Protected Plant Permit to Engage in the Business of Importing, Exporting, or Reexporting Terrestrial Plants Regulated by 50 CFR 17.12 and 23.23.”

* * * * *

§ 355.10 [Amended]

3. Section 355.10 is amended by removing the word “general” and adding the words “protected plant” in its place.

4. Section 355.11 is amended as follows:

a. By removing footnote 3 and revising the section heading and the introductory text of paragraph (b) to read as set forth below.

b. By removing the word “general” and adding in its place the words “protected plant” in the following places:

i. Paragraph (a).

ii. Paragraph (b).

iii. Paragraph (c).

iv. Paragraph (d), both times it appears.

v. Paragraph (e), all three times it appears.

vi. Paragraph (h), all three times it appears.

vii. Paragraph (i)(1), first sentence, both times it appears.

viii. Paragraph (i)(2), introductory text, both times it appears.

c. In paragraph (b)(5), by correcting the word “similiar” to read “similar”.

§ 355.11 Protected plant permits.

* * * * *

(b) An application for a protected plant permit shall be submitted to the Animal and Plant Health Inspection Service, Plant Protection and Quarantine, Permit Services, 4700 River Road Unit 133, Riverdale, MD 20737-1236. The completed application shall include the following information: ³

³ Application forms are available on the Internet (http://www.aphis.usda.gov/ppq/permits), by calling (877) 770-5990, or by writing to the address in this paragraph. Application forms may also be obtained from local offices at any of the ports designated in 50 CFR part 24. Telephone numbers and addresses of local offices are listed in telephone directories.

* * * * *

§ 355.20 [Amended]

5. In § 355.20, footnote 5 is redesignated as footnote 4.

§ 355.22 [Amended]

5. In § 355.22, footnote 6 is redesignated as footnote 5.

Done in Washington, DC, this 29th day of September 2005.
Elizabeth E. Gaston,
Acting Administrator, Animal and Plant Health Inspection Service.

[FR Doc. 05-19944 Filed 10-4-05; 8:45 am]

BILLING CODE 3410-34-P